DEPARTMENT OF HOMELAND SECURITY

U.S. Customs and Border Protection

[Docket No. USCBP-2015-0019]

Advisory Committee on Commercial Operations to U.S. Customs and Border Protection (COAC)

AGENCY: U.S. Customs and Border Protection, Department of Homeland Security (DHS).

ACTION: Committee Management; notice of Federal Advisory Committee meeting.

SUMMARY: The Advisory Committee on Commercial Operations to U.S. Customs and Border Protection (COAC) will meet on July 29, 2015, in Rosemont, IL. The meeting will be open to the public.

DATES: The Advisory Committee on Commercial Operations to U.S. Customs and Border Protection (COAC) will meet on Wednesday, July 29, 2015, from 1:00 p.m. to 4:00 p.m. CDT. Please note that the meeting may close early if the committee has completed its business.

Pre-Registration: Meeting participants may attend either in person or via webinar after pre-registering using a method indicated below:

—For members of the public who plan to attend the meeting in person, please register either online at https://apps.cbp.gov/te_reg/index.asp?w=45; by email to tradeevents@dhs.gov; or by fax to (202) 325-4290 by 5:00 p.m. EDT on July 24, 2015. You must register prior to the meeting in order to attend the meeting in person.

—For members of the public who plan to participate via webinar, please register online at https://apps.cbp.gov/te_reg/index.asp?w=45 by 5:00 p.m. EDT on July 24, 2015.

Feel free to share this information with other interested members of your organization or association.

Members of the public who are pre-registered and later require cancellation, please do so in advance of the meeting by accessing one (1) of the following links: https://apps.cbp.gov/te_reg/cancel.asp?w=45 to cancel an in person registration, or https://apps.cbp.gov/te_reg/cancel.asp?w=45 to cancel a webinar registration.

ADDRESSES: The meeting will be held at the Crown Plaza Chicago O'Hare, in the O'Hare Ballroom #1, 5440 North River Road, Rosemont, IL 60018. There will be signage posted directing visitors to the location of the O'Hare Ballroom #1.

For information on facilities or services for individuals with disabilities or to request special assistance at the meeting, contact Ms. Wanda Tate, Office of Trade Relations, U.S. Customs and Border Protection at (202) 344-1661 as soon as possible.

To facilitate public participation, we are inviting public comment on the issues to be considered by the committee prior to the formulation of recommendations as listed in the “Agenda” section below.

Comments must be submitted in writing no later than July 17, 2015, and must be identified by Docket No. USCBP-2015-0019, and may be submitted by one of the following methods:

• Federal eRulemaking Portal: http://www.regulations.gov. Follow the instructions for submitting comments.

• Email: Tradeevents@dhs.gov. Include the docket number in the subject line of the message.

• Fax: (202) 325-4290.

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket or to read background documents or comments, go to http://www.regulations.gov and search for Docket Number USCBP-2015-0019. To submit a comment, see the link on the Regulations.gov Web site for “How do I submit a comment?” located on the right hand side of the main site page.

There will be multiple public comment periods held during the meeting on July 29, 2015. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone (202) 344-1440; facsimile (202) 325-4290.

SUPPLEMENTARY INFORMATION: Notice of this meeting is given under the Federal Advisory Committee Act, 5 U.S.C. Appendix. The Advisory Committee on Commercial Operations to U.S. Customs and Border Protection (COAC) provides advice to the Secretary of Homeland Security, the Secretary of the Treasury, and the Commissioner of U.S. Customs and Border Protection (CBP) on matters pertaining to the commercial operations of CBP and related functions within Department of Homeland Security and the Department of the Treasury.

Agenda

The Advisory Committee on Commercial Operations to U.S. Customs and Border Protection (COAC) will hear from the following subcommittees on the topics listed below and then will review, deliberate, provide observations, and formulate recommendations on how to proceed on those topics:

1. The One U.S. Government Subcommittee will discuss the Automated Commercial Environment (ACE), Single Window working group recommendations and provide input on Trade Readiness and Partner Government Agencies' readiness for the upcoming November 1, 2015 ACE implementation of Single Window.

2. The Exports Subcommittee will address policy and a strategic approach regarding exports. The Option 4 and Air Manifest working groups will provide recommendations.

3. The Trade Enforcement and Revenue Collection Subcommittee will discuss the establishment of the 14th Term Antidumping and Countervailing Duty and Intellectual Property Rights working groups and provide recommendations.

4. The Trade Modernization Subcommittee will discuss operational uniformity of Centers of Excellence and Expertise (CEE) with a goal of developing recommendations for the creation of service levels for various Center activities. The subcommittee will report plans for engaging CBP on international trade agreements, simplification of CBP processes, the role of various international trade entities and the development of private and public sector trade expertise.

5. The Trusted Trader Subcommittee will start work once the Trusted Trader pilot has advanced to the implementation phase for testing CBP and Partner Government Agency trade benefits. The subcommittee will explore certifying trusted products through the supply chain.

6. The Global Supply Chain Subcommittee will discuss the feasibility, benefits and risks of using Electronic Cargo Security Devices. The subcommittee will report on long term development of recommendations regarding Customs and Border Protection's development of automation and regulations governing the commodities being moved by pipelines. Further discussion will involve the Customs-Trade Partnership Against Terrorism Program as it pertains to the ocean mode of transportation, results of various pre-inspection pilots at land ports of entry and the Air Cargo Advance Screening.

Meeting materials will be available at: http://www.cbp.gov/trade/stakeholder-engagement/coac/coac-public-meetings.

Dated: July 2, 2015.
Maria Luisa Boyce,
Senior Advisor for Private Sector Engagement, Office of Trade Relations.

[FR Doc. 2015-16814 Filed 7-8-15; 8:45 am]

BILLING CODE 9111-14-P